INTERNATIONAL TRADE COMMISSION

[Investigation Nos. 701-TA-583 and 731-TA-1381 (Review)]

Cast Iron Soil Pipe Fittings From China

Determinations

On the basis of the record ¹ developed in the subject five-year reviews, the United States International Trade Commission (“Commission”) determines, pursuant to the Tariff Act of 1930 (“the Act”), that revocation of the antidumping and countervailing duty orders on cast iron soil pipe fittings from China would be likely to lead to continuation or recurrence of material injury to an industry in the United States within a reasonably foreseeable time.

¹ The record is defined in § 207.2(f) of the Commission's Rules of Practice and Procedure (19 CFR 207.2(f)).

Background

The Commission instituted these reviews on July 3, 2023 (88 FR 42753) and determined on October 6, 2023 that it would conduct expedited reviews (88 FR 75308, November 2, 2023).

The Commission made these determinations pursuant to section 751(c) of the Act (19 U.S.C. 1675(c)). It completed and filed its determinations in these reviews on December 21, 2023. The views of the Commission are contained in USITC Publication 5484 (December 2023), entitled Cast Iron Soil Pipe Fittings from China: Investigation Nos. 701-TA-583 and 731-TA-1381 (Review).

By order of the Commission.
Issued: December 21, 2023.
Lisa Barton,
Secretary to the Commission.

[FR Doc. 2023-28580 Filed 12-27-23; 8:45 am]

BILLING CODE 7020-02-P